Proclamation 7714 of October 3, 2003

Marriage Protection Week, 2003

By the President of the United States of America

A Proclamation

Marriage is a sacred institution, and its protection is essential to the continued strength of our society. Marriage Protection Week provides an opportunity to focus our efforts on preserving the sanctity of marriage and on building strong and healthy marriages in America.

Marriage is a union between a man and a woman, and my Administration is working to support the institution of marriage by helping couples build successful marriages and be good parents.

To encourage marriage and promote the well-being of children, I have proposed a healthy marriage initiative to help couples develop the skills and knowledge to form and sustain healthy marriages. Research has shown that, on average, children raised in households headed by married parents fare better than children who grow up in other family structures. Through education and counseling programs, faith-based, community, and government organizations promote healthy marriages and a better quality of life for children. By supporting responsible child-rearing and strong families, my Administration is seeking to ensure that every child can grow up in a safe and loving home.

We are also working to make sure that the Federal Government does not penalize marriage. My tax relief package eliminated the marriage penalty. And as part of the welfare reform package I have proposed, we will do away with the rules that have made it more difficult for married couples to move out of poverty.

We must support the institution of marriage and help parents build stronger families. And we must continue our work to create a compassionate, welcoming society, where all people are treated with dignity and respect.

During Marriage Protection Week, I call on all Americans to join me in expressing support for the institution of marriage with all its benefits to our people, our culture, and our society.

NOW, THEREFORE, I, GEORGE W. BUSH, President of the United States of America, by virtue of the authority vested in me by the Constitution and laws of the United States, do hereby proclaim the week of October 12 through October 18, 2003, as Marriage Protection Week. I call upon the people of the United States to observe this week with appropriate programs, activities, and ceremonies.

IN WITNESS WHEREOF, I have hereunto set my hand this third day of October, in the year of our Lord two thousand three, and of the Independence of the United States of America the two hundred and twenty-eighth.

B

[FR Doc. 03-25652

Filed 10-7-03; 8:45 am]

Billing code 3195-01-P